SMALL BUSINESS ADMINISTRATION

[Declaration of Disaster #3623]

State of North Carolina

As a result of the President's major disaster declaration on September 10, 2004, I find that Avery, Buncombe, Burke, Caldwell, Haywood, Henderson, Jackson, Madison, McDowell, Mitchell, Polk, Rutherford, Transylvania, Watauga and Yancey Counties in the State of North Carolina constitute a disaster area due to damages caused by Tropical Storm Frances occurring on September 7, 2004, and continuing. Applications for loans for physical damage as a result of this disaster may be filed until the close of business on November 9, 2004, and for economic injury until the close of business on June 10, 2005, at the address listed below or other locally announced locations: U.S. Small Business Administration, Disaster Area 2 Office, One Baltimore Place, Suite 300, Atlanta, GA 30308.

In addition, applications for economic injury loans from small businesses located in the following contiguous counties may be filed until the specified date at the above location: Alexander, Ashe, Catawba, Cleveland, Lincoln, Macon, Swain and Wilkes in North Carolina; Rabun County in the State of Georgia; Cherokee, Greenville, Oconee, Pickens and Spartanburg Counties in the State of South Carolina; and Carter, Cocke, Greene, Johnson and Unicol Counties in the State of Tennessee.

The interest rates are:

| Percent
For Physical Damage:
Homeowners With Credit Available Elsewhere | 6.375
Homeowners Without Credit Available Elsewhere | 3.187
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 362308. For economic injury the number is 9ZU500 for North Carolina; 9ZU600 for Georgia; 9ZU700 for South Carolina; and 9ZU800 for Tennessee.

(Catalog of Federal Domestic Assistance Program Nos. 59002 and 59008)
Dated: September 13, 2004.
Herbert L. Mitchell,
Associate Administrator for Disaster Assistance.

[FR Doc. 04-20967 Filed 9-16-04; 8:45 am]

BILLING CODE 8025-01-P